NUCLEAR REGULATORY COMMISSION

10 CFR Parts 20, 30, 40, 50, 70, and 72

[NRC-2011-0286]

Guidance for Decommissioning Planning During Operations

AGENCY: Nuclear Regulatory Commission.

ACTION: Draft regulatory guide; re-opening of comment period.

SUMMARY: On December 13, 2011 (76 FR 77431), the U.S. Nuclear Regulatory Commission (NRC) re-issued Draft Regulatory Guide, DG-4014, “Decommissioning Planning During Operations” in the Federal Register with a public comment period ending on February 10, 2012. The NRC is re-opening the public comment period for DG-4014 from February 10, 2012 to March 30, 2012. DG-4014 describes a method that the NRC staff considers acceptable for use in complying with the NRC's Decommissioning Planning Rule.

DATES: Submit comments by March 30, 2012. Comments received after this date will be considered if it is practical to do so, but the NRC is able to ensure consideration only for comments received on or before this date. Although a time limit is given, comments and suggestions in connection with items for inclusion in guides currently being developed or improvements in all published guides are encouraged at any time.

ADDRESSES: Please include Docket ID NRC-2011-0286 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web site: Go to http://www.regulations.gov and search for documents filed under Docket ID NRC-2011-0286. Address questions about NRC dockets to Carol Gallagher, telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this regulatory guide using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by email to pdr.resource@nrc.gov. The draft regulatory guide is available electronically under ADAMS Accession Number ML110960051.

• Federal Rulemaking Web site: Public comments and supporting materials related to this regulatory guide can be found at http://www.regulations.gov by searching on Docket ID NRC-2011-0286.

FOR FURTHER INFORMATION CONTACT: James C. Shepherd, U.S. Nuclear Regulatory Commission, Washington, DC 20555-0001, telephone: 301-492-6712, email: James.Shepherd@nrc.gov.

SUPPLEMENTARY INFORMATION: On December 13, 2011 (76 FR 77431), the NRC published a notice of issuance and availability of Draft Regulatory Guide DG-4014, “Decommissioning Planning During Operations.” This DG refers to NUREG-1757 Volume 3, Revision 1, “Financial Assurance, Recording Keeping, and Timeliness,” that provides guidance on the financial aspects of the Decommissioning Planning Rule. The NUREG is scheduled for publication on February 27, 2012. Therefore the comment submittal period for DG-4014 is extended from the original date of February 10, 2012 to March 30, 2012.

Dated at Rockville, Maryland, this 7th day of February 2012.
For the U.S. Nuclear Regulatory Commission.
Thomas H. Boyce,
Chief, Regulatory Guide Development Branch, Division of Engineering, Office of Nuclear Regulatory Research.

[FR Doc. 2012-3522 Filed 2-14-12; 8:45 am]

BILLING CODE 7590-01-P